DEPARTMENT OF AGRICULTURE

Forest Service

Lynn Canal/Icy Straits Resource Advisory Committee

AGENCY: Forest Service, USDA.

ACTION: Notice of meeting.

SUMMARY: The Lynn Canal/Icy Straits Resource Advisory Committee will meet in Juneau, Alaska, August 12-13, 2011. The purpose of the meeting is to review, discuss, evaluate, prioritize and recommend projects for approval by the Forest Supervisor.

DATES: The meeting will be held Friday, August 12, 2011 from 8:30-4:30 and Saturday, August 13, 2011 from 9-3 unless additional time is necessary.

ADDRESSES: The meeting will be held at the Juneau Ranger District/Admiralty National Monument Office, 8510 Mendenhall Loop Road, Juneau, Alaska. Send written comments to Lynn Canal/Icy Straits Resource Advisory Committee, c/o Admiralty National Monument Ranger, 8510 Mendenhall Loop Road, Juneau, Alaska 99801, or electronically to Debra Robinson, RAC Coordinator at drobinson03@fs.fed.us.

FOR FURTHER INFORMATION CONTACT: Debra Robinson, RAC Coordinator Juneau Ranger District/Admiralty National Monument, Tongass National Forest, (907) 789-6209.

SUPPLEMENTARY INFORMATION: The meeting is open to the public. Committee discussion is limited to Forest Service staff and Committee members. However, public input opportunity will be provided and individuals will have the opportunity to address the Committee at that time.

Dated: July 21, 2011.
Barbara J. Sams,
Acting Admiralty National Monument Ranger.

[FR Doc. 2011-19063 Filed 7-27-11; 8:45 am]

BILLING CODE 3410-11-P